DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On January 26, 2023, OFAC determined that the property and interests in property subject to U.S. jurisdiction of the following persons are blocked under the relevant sanctions authority listed below.

Individuals

1. CARTES JARA, Horacio Manuel (a.k.a. CARTES, Horacio; a.k.a. VIVEROS CARTES, Horacio), Paraguay; DOB 05 Jul 1956; POB Asuncion, Paraguay; nationality Paraguay; Gender Male; Passport P486167 (Paraguay) issued 09 Nov 2018 expires 09 Nov 2023; National ID No. 492599 (Paraguay) (individual) [GLOMAG].

Designated pursuant to section 1(a)(ii)(B)(1) of Executive Order 13818 of December 20, 2017, “Blocking the Property of Persons Involved in Serious Human Rights Abuse or Corruption,” 82 FR 60839 (Dec. 26, 2017) (E.O. 13818) for being a foreign person who is a current or former government official, or a person acting for or on behalf of such an official, who is responsible for or complicit in, or has directly or indirectly engaged in, corruption, including the misappropriation of state assets, the expropriation of private assets for personal gain, corruption related to government contracts or the extraction of natural resources, or bribery.

2. VELAZQUEZ MORENO, Hugo Adalberto, Asuncion, Paraguay; DOB 03 Sep 1967; POB Itacurubi del Rosario, Paraguay; nationality Paraguay; Gender Male; Passport D15449 (Paraguay) issued 20 Nov 2018 expires 20 Nov 2023 (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to government contracts or the extraction of natural resources, or bribery.

Entities

1. BEBIDAS USA INC., 4500 William Penn Highway, Easton, PA 18045, United States; Organization Established Date 13 Jan 2011; Business Registration Number 4927052 (Delaware) (United States); alt. Business Registration Number 4065904 (Pennsylvania) (United States) [GLOMAG].

Designated pursuant to section 1(a)(iii)(B) of E.O. 13818 for being owned or controlled by, or having acted or purported to act for or on behalf of, directly or indirectly, CARTES JARA, Horacio Manuel, a person whose property and interests in property are blocked pursuant to this order.

2. DOMINICANA ACQUISITION S.A., Calle 29 de Setiembre entre Nicolas Arguello y Rudy Torga Numero 1624, Lambare, Central, Paraguay; Organization Established Date 12 Nov 2018; Paraguayan tax identification number 80105176-2 (Paraguay) [GLOMAG].

Designated pursuant to section 1(a)(iii)(B) of E.O. 13818 for being owned or controlled by, or having acted or purported to act for or on behalf of, directly or indirectly, CARTES JARA, Horacio Manuel, a person whose property and interests in property are blocked pursuant to this order.

3. FRIGORIFICO CHAJHA S.A.E. (Latin: FRIGORÍFICO CHAJHA S.A.E.), Carretera Ruta 9 Dr. Carlos Antonio Lopez, Km 26.5, Villa Hayes, Presidente Hayes, Paraguay; Organization Established Date 10 Jun 2020; Paraguayan tax identification number 80112472-7 (Paraguay) [GLOMAG].

Designated pursuant to section 1(a)(iii)(B) of E.O. 13818 for being owned or controlled by, or having acted or purported to act for or on behalf of, directly or indirectly, CARTES JARA, Horacio Manuel, a person whose property and interests in property are blocked pursuant to this order.

4. TABACOS USA INC., 4500 William Penn Highway, Easton, PA 18045, United States; 3815 Bethman Road, Easton, PA 18045, United States; Organization Established Date 08 Jun 2004; Business Registration Number 3811964 (Delaware) (United States); alt. Business Registration Number 0101044929 (New Jersey) (United States); alt. Business Registration Number 0005657373 (North Dakota) (United States); alt. Business Registration Number 3331739 (Pennsylvania) (United States); alt. Business Registration Number 7686966-0143 (Utah) (United States); alt. Business Registration Number 270084 (West Virginia) (United States) [GLOMAG].

Designated pursuant to section 1(a)(iii)(B) of E.O. 13818 for being owned or controlled by, or having acted or purported to act for or on behalf of, directly or indirectly, CARTES JARA, Horacio Manuel, a person whose property and interests in property are blocked pursuant to this order.

Dated: January 26, 2023.
Andrea Gacki,
Director, Office of Foreign Assets Control, U.S. Department of the Treasury.

[FR Doc. 2023-02071 Filed 1-31-23; 8:45 am]

BILLING CODE 4810-AL-P